DEPARTMENT OF ENERGY

Federal Energy Regulatory Commission

Combined Notice of Filings #1

January 2, 2009.

Take notice that the Commission received the following exempt wholesale generator filings:

Docket Numbers: EG09-21-000.

Applicants: Fox Energy Company LLC.

Description: Notice of Self-Recertification of Exempt Wholesale Generator Status of Fox Energy Company LLC in EG09-21.

Filed Date: 12/31/2008.

Accession Number: 20081231-5091.

Comment Date: 5 p.m. Eastern Time on Wednesday, January 21, 2009.

Take notice that the Commission received the following electric rate filings:

Docket Numbers: ER95-1528-020; ER01-1114-013; ER01-2659-014; ER02-2199-012; ER03-54-012; ER03-56-012; ER03-674-013; ER05-453-004; ER05-89-012; ER96-1088-047; ER97-2758-020; ER99-1936-012.

Applicants: Wisconsin Public Service Corporation, Upper Peninsula Power Company, Wisconsin River Power Company, WPS Energy Services, Inc.,WPS POWER DEVELOPMENT, LLC, Quest Energy, LLC, Combined Locks Energy Center, LLC, WPS Empire State, Inc., WPS Beaver Falls Generation, LLC, WPS Syracuse Generation, LLC, WPS Canada Generation, Inc., WPS New England Generation, Inc., WPS Westwood Generation, LLC, Advantage Energy, Inc.

Description: Integrys Energy Group, Inc submits revised MBR tariffs under ER95-1528 et al.

Filed Date: 12/22/2008

Accession Number: 20081230-0043.

Comment Date: 5 p.m. Eastern Time on Monday, January 12, 2009.

Docket Numbers: ER98-411-004.

Applicants: Wolverine Power Supply Cooperative, Inc.

Description: Wolverine Power Supply Cooperative, Inc submits revisions to its market based rate tariff to reflect the new requirements established in Order 697 and 697-A.

Filed Date: 12/23/2008.

Accession Number: 20081229-0160.

Comment Date: 5 p.m. Eastern Time on Tuesday, January 13, 2009.

Docket Numbers: ER00-840-009; ER01-137-007; ER98-1767-014; ER99-3165-009; ER94-389-030.

Applicants: Tenaska Alabama II Partners, L.P., Tenaska Alabama Partners, L.P., Tenaska Frontier Partners, Ltd., Tenaska Power Services Co., TENASKA GEORGIA PARTNERS LP.

Description: Updated Market Power Analysis.

Filed Date: 12/24/2008.

Accession Number: 20081224-5025.

Comment Date: 5 p.m. Eastern Time on Monday, February 23, 2009.

Docket Numbers: ER00-1115-008; ER00-3562-008; ER00-38-008; ER01-480-007; ER06-441-003; ER06-749-004; ER06-750-004; ER06-751-005; ER06-752-004; ER07-1335-004.

Applicants: BROAD RIVER ENERGY LLC, Calpine Construction Finance Company, LP, Calpine Energy Services LP, CARVILLE ENERGY LLC, Columbia Energy LLC, Decatur Energy Center, LLC, MOBILE ENERGY LLC, Morgan Energy Center, LLC, Pine Bluff Energy, LLC, Santa Rosa Energy Center, LLC.

Description: Errata to Updated Market Power Analysis of Calpine Southeast MBR Sellers under ER00-1115 et al.

Filed Date: 12/31/2008.

Accession Number: 20081231-5081.

Comment Date: 5 p.m. Eastern Time on Monday, March 2, 2009.

Docket Numbers: ER02-506-012; ER01-943-011; ER09-20-001; ER99-4160-017; ER08-451-004.

Applicants: Bluegrass Generation Company, L.L.C., Dynegy Power Marketing, Inc., Dynegy Marketing and Trade, Plum Point Energy Associates, LLC, Heard County Power, LLC.

Description: Bluegrass Generation Company, L.L.C., et al. submits the Updated Power Analysis under ER02-506, et al.

Filed Date: 12/24/2008.

Accession Number: 20081224-5079.

Comment Date: 5 p.m. Eastern Time on Monday, February 23, 2009.

Docket Numbers: ER02-1052-010; ER96-1947-024.

Applicants: West Georgia Generating Company, L.L.C., LS Power Marketing, LLC.

Description: LS Power Marketing, LLC submits joint triennial market power update for the Southeast region under ER02-1052 et al.

Filed Date: 12/29/2008.

Accession Number: 20081230-0223.

Comment Date: 5 p.m. Eastern Time on Friday, February 27, 2009.

Docket Numbers: ER03-879-006; ER03-880-006; ER03-882-006.

Applicants: D.E. Shaw & Co. Energy, L.L.C.

Description: Supplement to Application for Category 1 Seller Status and Filing of Pro Forma Tariff Changes under ER03-879 et al.

Filed Date: 12/24/2008.

Accession Number: 20081224-5047.

Comment Date: 5 p.m. Eastern Time on Wednesday, January 14, 2009.

Docket Numbers: ER04-944-004.

Applicants: Orion Power Midwest, L.P., Reliant Energy Mid-Atlantic Pwr Holdings, Reliant Energy New Jersey Holdings, LLC, Reliant Energy Seward, LLC, Reliant Energy Wholesale Generation, LLC.

Description: Reliant Energy Wholesale Generation, LLC submits a supplement to the June 30, 2008 Triennial Market Update under ER04-944.

Filed Date: 12/30/2008.

Accession Number: 20081230-5112.

Comment Date: 5 p.m. Eastern Time on Wednesday, January 21, 2009.

Docket Numbers: ER05-320-006; ER97-2460-011; ER97-2463-008.

Applicants: Unitil Power Corporation, Unitil Energy Systems, Inc., Fitchburg Gas and Electric Light Company.

Description: Notice of Change in Status that Does Not Raise Competitive Issues of Unitil Energy Systems, Inc. et al.

Filed Date: 12/23/2008.

Accession Number: 20081223-5073.

Comment Date: 5 p.m. Eastern Time on Tuesday, January 13, 2009.

Docket Numbers: ER07-1356-007; ER07-1115-006; ER07-1118-006; ER07-1120-006; ER07-1122-006; ER08-148-006; ER05-1232-015; ER09-335-001.

Applicants: BE Alabama LLC; BE Colquitt LLC; BE Rayle LLC; BE Satilla LLC; BE Walton LLC; Central Power & Lime, Inc.; J.P. Morgan Ventures Energy Corporation; J.P. Morgan Ventures Energy Corporation.

Description: J.P. Morgan Ventures Energy Corporation et al. submits Updated Market Power Analysis pursuant to Order Nos. 697 and 697-A Compliance Filing.

Filed Date: 12/31/2008.

Accession Number: 20081231-5094.

Comment Date: 5 p.m. Eastern Time on Monday, March 2, 2009.

Docket Numbers: ER07-1106-002.

Applicants: ArcLight Energy Marketing, LLC.

Description: Updated Market Power Analysis.

Filed Date: 12/31/2008

Accession Number: 20081231-5065

Comment Date: 5 p.m. Eastern Time on Monday, March 2, 2009.

Docket Numbers: ER08-627-003.

Applicants: NSTAR Electric Company.

Description: NSTAR Electric Company submits proposed revisions to Schedule 20A-NSTAR of Section II of the ISO New England Inc Transmission, Markets and Services Tariff, FERC Electric Tariff 3 etc under ER08-627.

Filed Date: 12/29/2008.

Accession Number: 20081230-0218.

Comment Date: 5 p.m. Eastern Time on Wednesday, January 21, 2009.

Docket Numbers: ER08-1569-001.

Applicants: PJM Interconnection, L.L.C.

Description: PJM Interconnection, LLC submits revised sheets to Schedule 1 of the Amended and Restated Operating Agreement of PJM Interconnection, LLC etc under ER08-1569.

Filed Date: 12/29/2008.

Accession Number: 20081230-0220.

Comment Date: 5 p.m. Eastern Time on Wednesday, January 21, 2009.

Docket Numbers: ER09-34-001.

Applicants: Pacific Gas and Electric Company.

Description: Pacific Gas and Electric Company submit revised tariff sheets to the Transmission Owner Tariff under FERC Electric Tariff, Sixth Revised Volume 5 under ER09-34.

Filed Date: 12/24/2008.

Accession Number: 20081230-0041.

Comment Date: 5 p.m. Eastern Time on Wednesday, January 14, 2009.

Docket Numbers: ER09-74-001

Applicants: PacifiCorp

Description: PacifiCorp submits revised clean and blackline rate schedules that comply with Order 614 and Section 35.9 (a) under ER09-74.

Filed Date: 12/29/2008.

Accession Number: 20081230-0219.

Comment Date: 5 p.m. Eastern Time on Wednesday, January 21, 2009.

Docket Numbers: ER09-429-000.

Applicants: Sheldon Energy LLC.

Description: Sheldon Energy LLC submits an application for authorization of market based wholesale sales of energy, capacity, and ancillary services, under FERC Electric Tariff 1, and request for related Waivers under ER09-429.

Filed Date: 12/24/2008.

Accession Number: 20081230-0048.

Comment Date: 5 p.m. Eastern Time on Wednesday, January 14, 2009.

Docket Numbers: ER09-430-000.

Applicants: Willow Creek Energy LLC.

Description: Willow Creek LLC submits an application for authorization to make market based wholesale sales of energy, capacity, and ancillary services to its FERC Electric Tariff 1, et al. under ER09-430.

Filed Date: 12/24/2008.

Accession Number: 20081230-0050.

Comment Date: 5 p.m. Eastern Time on Wednesday, January 14, 2009.

Docket Numbers: ER09-440-000.

Applicants: Madison Paper Industries.

Description: Madison Paper Industries submits an Application for Market Based Rate Authorization and Request for Waivers and Blanket Authorizations, and submit a supplement on 12/30/08.

Filed Date: 12/24/2008; 12/30/2008.

Accession Number: 20081230-0049; 20081230-5060.

Comment Date: 5 p.m. Eastern Time on Wednesday, January 14, 2009.

Docket Numbers: ER09-446-000.

Applicants: Southern California Edison Company.

Description: Southern California Edison Co submits Sub Eighth Revised Sheet No. 25 et al. to FERC Electric Tariff, Second Revised Volume No. 6, to be effective 3/1/09 under ER09-446 et al.

Filed Date: 12/24/2008.

Accession Number: 20081224-0111.

Comment Date: 5 p.m. Eastern Time on Wednesday, January 14, 2009.

Docket Numbers: ER09-455-000.

Applicants: Portland General Electric Company.

Description: Portland General Electric Co. submits their First Revised Rate Schedule 49, a Long Term Power Sale Agreement with San Diego Gas & Electric Co under ER09-455.

Filed Date: 12/22/2008.

Accession Number: 20081229-0119.

Comment Date: 5 p.m. Eastern Time on Monday, January 12, 2009.

Docket Numbers: ER09-456-000.

Applicants: PJM Interconnection, L.L.C.

Description: PJM Interconnection, LLC submits notice of the cancellation of an interim interconnection service agreement between PJM and American Electric Power Service Corporation as agent for the operating companies of the AEPSC etc under ER09-456.

Filed Date: 12/22/2008.

Accession Number: 20081229-0112.

Comment Date: 5 p.m. Eastern Time on Monday, January 12, 2009.

Docket Numbers: ER09-466-000.

Applicants: New York Independent System Operator, Inc.

Description: New York Independent System Operator, Inc. submits tariff revisions to its Market Administration and Control Area Services Tariff and its Open Access Transmission Tariff etc under ER09-466.

Filed Date: 12/23/2008.

Accession Number: 20081229-0102.

Comment Date: 5 p.m. Eastern Time on Tuesday, January 13, 2009.

Docket Numbers: ER09-467-000.

Applicants: ISO New England Inc.

Description: ISO New England, Inc submits their Forward Capacity Auction Results Filing under ER09-467.

Filed Date: 12/23/2008.

Accession Number: 20081229-0101.

Comment Date: 5 p.m. Eastern Time on Tuesday, January 13, 2009.

Docket Numbers: ER09-470-000.

Applicants: Macquarie Cook Power, Inc.

Description: Macquarie Cook Power Inc. submits a Certificate of Concurrence to the 1997 Agreement for Hourly Coordination of Projects on the Mid-Columbia River under ER09-470.

Filed Date: 12/24/2008.

Accession Number: 20081230-0037.

Comment Date: 5 p.m. Eastern Time on Wednesday, January 14, 2009.

Docket Numbers: ER09-471-000.

Applicants: Westar Energy, Inc.

Description: Westar Energy, Inc submits a Balancing Area Services Agreement between Westar and Smokey Hills Wind Project II, LLC under ER09-471.

Filed Date: 12/24/2008.

Accession Number: 20081230-0039.

Comment Date: 5 p.m. Eastern Time on Wednesday, January 14, 2009.

Docket Numbers: ER09-472-000.

Applicants: PacifiCorp.

Description: PacifiCorp submits an updated Exhibit B to a Network Integration Transmission Service Agreement between PacifiCorp Transmission and PacifiCorp Energy, etc under ER09-472.

Filed Date: 12/24/2008.

Accession Number: 20081230-0038.

Comment Date: 5 p.m. Eastern Time on Wednesday, January 14, 2009.

Docket Numbers: ER09-473-000.

Applicants: Wisconsin Public Service Corporation.

Description: Wisconsin Public Service Corporation Second Revised Sheet 2 et al. to its FERC Electric Rate Schedule 78 under ER09-473.

Filed Date: 12/24/2008.

Accession Number: 20081230-0042.

Comment Date: 5 p.m. Eastern Time on Wednesday, January 14, 2009.

Docket Numbers: ER09-476-000.

Applicants: Pacific Gas and Electric Company.

Description: Pacific Gas and Electric Company submits Notice of Termination of the Letter Agreement for Surplus Electric Services between PG&E and the Los Angeles Department of Water and Power under ER09-476.

Filed Date: 12/24/2008.

Accession Number: 20081230-0217.

Comment Date: 5 p.m. Eastern Time on Wednesday, January 14, 2009.

Docket Numbers: ER09-477-000.

Applicants: Acadia Power Partners, LLC.

Description: Acadia Power Partners, LLC and Cleco Power LLC submits a joint application for a short-term power purchase agreement under ER09-477.

Filed Date: 12/24/2008.

Accession Number: 20081230-0224.

Comment Date: 5 p.m. Eastern Time on Wednesday, January 14, 2009.

Docket Numbers: ER09-478-000.

Applicants: NorthWestern Corporation.

Description: NorthWestern Corporation et al. submits an amendment to the executed Large Generator Interconnection Agreement between NorthWesters and NaturEner Glacier Wind Energy 1, LLC originally filed by NorthWestern on 8/26/08 under ER09-478.

Filed Date: 12/29/2008.

Accession Number: 20081230-0221.

Comment Date: 5 p.m. Eastern Time on Wednesday, January 21, 2009.

Docket Numbers: ER09-479-000.

Applicants: PJM Interconnection, LLC.

Description: PJM Interconnection, LLC submits an executed Wholesale Market Participation Agreement entered into among PJM, AES, and PECO, executed on 11/24/08 under ER09-479.

Filed Date: 12/29/2008.

Accession Number: 20081230-0222.

Comment Date: 5 p.m. Eastern Time on Wednesday, January 21, 2009.

Docket Numbers: ER09-480-000.

Applicants: Mid-Continent Energy Marketers Association.

Description: Mid-Continent Energy Marketers Association et al. submits its proposed revisions to the MEMA Capacity and Energy Tariff under ER09-480.

Filed Date: 12/29/2008.

Accession Number: 20081230-0216.

Comment Date: 5 p.m. Eastern Time on Wednesday, January 21, 2009.

Take notice that the Commission received the following open access transmission tariff filings:

Docket Numbers: OA09-15-000.

Applicants: Golden Spread Electric Cooperative, Inc.

Description: Request for Waivers re Golden Spread Electric Cooperative, Inc under OA09-15.

Filed Date: 12/31/2008.

Accession Number: 20081231-5066.

Comment Date: 5 p.m. Eastern Time on Wednesday, January 21, 2009.

Take notice that the Commission received the following public utility holding company filings:

Docket Numbers: PH09-5-000.

Applicants: Sempra Energy.

Description: Request for Waiver re Sempra Energy under PH06-108.

Filed Date: 12/31/2008.

Accession Number: 20081231-5071.

Comment Date: 5 p.m. Eastern Time on Wednesday, January 21, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov, or call (866) 208-3676 (toll free). For TTY, call (202) 502-8659.

Nathaniel J. Davis, Sr.,
Deputy Secretary.

[FR Doc. E9-397 Filed 1-12-09; 8:45 am]

BILLING CODE 6717-01-P